DEPARTMENT OF COMMERCE

National Oceanic and Atmospheric Administration

RIN 0648-XT015

Atlantic Highly Migratory Species; Atlantic Bluefin Tuna Fisheries; Pelagic Longline Fishery Management

AGENCY: National Marine Fisheries Service (NMFS), National Oceanic and Atmospheric Administration (NOAA), Commerce.

ACTION: Notice of public hearing.

SUMMARY: This notice announces an additional public hearing for a proposed rule NMFS published on July 12, 2019. The proposed rule would adjust regulatory measures that reduce bluefin tuna bycatch in the pelagic longline fishery for Atlantic highly migratory species (HMS).

DATES: The public hearing will be held at the Greater Atlantic Regional Fisheries Office in Gloucester, MA on September 19, 2019, from 5 p.m.-7 p.m. Comments on the proposed rule must be submitted on or before September 30, 2019. For the specific date, time, and address information see the ADDRESSES section of this document.

ADDRESSES: NMFS will hold a public hearing on the proposed rule to adjust regulatory measures that reduce bluefin tuna bycatch in the pelagic longline fishery for Atlantic HMS on September 19, 2019 from 5 p.m.-7 p.m. at the following address: National Marine Fisheries Service, Greater Atlantic Regional Fisheries Office, Hearing Room A, 55 Great Republic Dr, Gloucester, MA 01930.

You may submit comments on the proposed rule, identified by NOAA-NMFS-2018-0035, by any one of the following methods:

• Electronic Submission: Submit all electronic public comments via the Federal e-Rulemaking Portal. Go to www.regulations.gov/#!docketDetail;D=NOAA-NMFS-2018-0035, click the “Comment Now” icon, complete the required fields, and enter or attach your comments.

• Mail: Submit written comments to Craig Cockrell, NMFS/SF1, 1315 East-West Highway, National Marine Fisheries Service, SSMC3, Silver Spring, MD 20910.

Instructions: Please include the identifier NOAA-NMFS-2018-0035 when submitting comments. Comments sent by any other method, to any other address or individual, or received after the close of the comment period, may not be considered by NMFS. All comments received are a part of the public record and generally will be posted for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Jennifer Cudney, 727-824-5399 or Craig Cockrell, 301-427-8503.

SUPPLEMENTARY INFORMATION:

Need for Additional Hearing

On July 12, 2019, NMFS published a proposed rule in the Federal Register (84 FR 33205) that would adjust regulatory measures put in place to reduce bluefin tuna bycatch in the pelagic longline fishery for Atlantic highly migratory species (HMS). Specifically, the proposed measures address the Northeastern United States Closed Area, the Cape Hatteras Gear Restricted Area, and the Spring Gulf of Mexico Gear Restricted Area as well as the weak hook requirement in the Gulf of Mexico.

In the proposed rule, NMFS scheduled a hearing in Gloucester, MA on July 16, 2019. Recently, NMFS has received feedback from the public that there was not a sufficient amount of time (i.e., three business days) between publication of the proposed rule and the date of the public hearing in Gloucester, MA for news of the hearing to be shared across information networks to interested constituents. Therefore, NMFS is scheduling this additional hearing (see ADDRESSES) in Gloucester, MA to gather additional comment from the affected public in this area.

Authority: 16 U.S.C. 971 et seq.; 16 U.S.C. 1801 et seq.

Dated: August 27, 2019.
Jennifer M. Wallace,
Acting Director, Office of Sustainable Fisheries, National Marine Fisheries Service.

[FR Doc. 2019-18813 Filed 8-29-19; 8:45 am]

BILLING CODE 3510-22-P